GENERAL SERVICES ADMINISTRATION

41 CFR Part 102-118

[FRM Change 2013-01; FMR Case 2013-102-3; Docket No. 2013-0014; Sequence No. 1]

RIN 3090-AJ39

Federal Management Regulation (FMR); Transportation Payment and Audit

AGENCY: Office of Government-wide Policy (OGP), General Services Administration (GSA).

ACTION: Final rule.

SUMMARY: GSA is amending the Federal Management Regulation (FMR) to update the name and contact information of the Civilian Board of Contract Appeals (CBCA) from the previously named General Services Board of Contract Appeals (GSBCA).

DATES: Effective Date: November 29, 2013.

FOR FURTHER INFORMATION CONTACT: For clarification of content, contact Lee Gregory, Office of Government-wide Policy, at 202-501-1533. Please cite FMR Case 2013-102-3. For information pertaining to status or publication schedules, contact the Regulatory Secretariat (MVCB), 1800 F Street NW., Washington, DC 20405, 202-501-4755.

SUPPLEMENTARY INFORMATION:

A. Background

The Civilian Board of Contract Appeals (CBCA) was established on January 6, 2007, pursuant to section 847 of the National Defense Authorization Act for Fiscal Year 2006, Public Law 109-163, 119 Stat. 3391. That portion of the statute is now incorporated into the 2011 codification of the Contract Disputes Act, 41 U.S.C. 7101-7109, and the section specifically addressing the establishment of the CBCA is incorporated into 41 U.S.C. 7105(b)(1) “There is established in the General Services Administration the Civilian Board of Contract Appeals.” Although the Board is functionally located within U.S. General Services Administration as of July 8, 2011, “GSA” is not part of its name.

This final rule amends FMR part 102-118 (41 CFR part 102-118) by removing the term “General Services Board of Contract Appeals” and adding the term “Civilian Board of Contract Appeals (CBCA)” in its place.

B. Executive Orders 12866 and 13563

Executive Orders (E.O.s) 12866 and 13563 direct agencies to assess all costs and benefits of available regulatory alternatives, and if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action, and therefore, will not be subject to review under Section 6(b) of E.O. 12866, Regulatory Planning and Review, dated September 30, 1993. This final rule is not a major rule under 5 U.S.C. 804.

C. Regulatory Flexibility Act

While these revisions are substantive, this final rule would not have a significant economic impact on a substantial number of small entities within the meaning of the Regulatory Flexibility Act, 5 U.S.C. 601, et seq. This final rule is also exempt from the Administrative Procedure Act per 5 U.S.C. 553(a)(2) because it applies to agency management or personnel.

D. Paperwork Reduction Act

The Paperwork Reduction Act does not apply because the changes to the FMR do not impose recordkeeping or information collection requirements, or the collection of information from offerors, contractors, or members of the public that require the approval of the Office of Management and Budget under 44 U.S.C. 3501, et seq.

E. Small Business Regulatory Enforcement Fairness Act

This final rule is also exempt from Congressional review prescribed by 5 U.S.C. 801 since it relates to agency management and personnel.

List of Subjects in 41 CFR Part 102-118

Accounting, Claims, Government property management, Reporting and recordkeeping requirements, Transportation.

Dated: September 26, 2013.
Dan Tangherlini,
Administrator of General Services.

For the reasons set forth in the preamble, GSA amends 41 CFR Part 102-118 as set forth below:

PART 102-118—TRANSPORTATION PAYMENT AND AUDIT

1. The authority citation for 41 CFR part 102-118 continues to read as follows:

Authority: 31 U.S.C. 3726; and 40 U.S.C. 481, et seq.

§ 102-118.410 [Amended]

2. Amend § 102-118.410 in paragraph (a)(4) by removing “GSA Board” and adding the word “Civilian Board” in its place.

§ 102-118.490 [Amended]

3. Amend § 102-118.490 in paragraph (b) by removing “General Services” and adding “Civilian” in its place.

4. Revise § 102-118.580 to read as follows:

§ 102-118.580 May a TSP appeal a prepayment audit decision of the GSA Audit Division?

Yes, the TSP may appeal to the Civilian Board of Contract Appeals (CBCA) under guidelines established in this Subpart F, or file a claim with the United States Court of Federal Claims. The TSP's request for review must be received by the CBCA in writing within 6 months (not including times of war) from the date the settlement action was taken or within the periods of limitation specified in 31 U.S.C. 3726, as amended, whichever is later. The TSP must address requests:

(a) By United States Postal Service to: Civilian Board of Contract Appeals (CBCA), 1800 F Street NW., Washington, DC 20405;

(b) In person or by courier to: Civilian Board of Contract Appeals, 6th floor, 1800 M Street NW., Washington, DC 20036;

(c) By facsimile (FAX) to: 202-606-0019; or

(d) By electronic mail to: cbca.efile@cbca.gov.

5. Revise § 102-118.655 to read as follows:

§ 102-118.655 Are there time limits on a TSP request for an administrative review by the Civilian Board of Contract Appeals (CBCA)?

Yes, the CBCA must receive a request for review from the TSP within six months (not including times of war) from the date the settlement action was taken or within the periods of limitation specified in 31 U.S.C. 3726, as amended, whichever is later. Address requests:

(a) By United States Postal Service to: Civilian Board of Contract Appeals (CBCA), 1800 F Street NW., Washington, DC 20405;

(b) In person or by courier to: Civilian Board of Contract Appeals, 6th floor, 1800 M Street NW., Washington, DC 20036;

(c) By facsimile (FAX) to: 202-606-0019; or

(d) By electronic mail to: cbca.efile@cbca.gov.

[FR Doc. 2013-28578 Filed 11-27-13; 8:45 am]

BILLING CODE 6820-14-P